DEPARTMENT OF TRANSPORTATION

Federal Aviation Administration

14 CFR Part 71

[Docket No. FAA-2005-23270; Airspace Docket No. 05-ANM-16]

Revision to Class E Airspace; Laramie, WY

AGENCY: Federal Aviation Administration (FAA), DOT.

ACTION: Final rule.

SUMMARY: This final rule will revise the Class E airspace at Laramie, WY. Additional controlled airspace is necessary for the safety of aircraft executing an instrument approach procedure (IAP), and executing a new holding pattern published at Laramie Regional Airport, Laramie, WY. Additionally, this action reflects a change in the airport name from General Brees Field to Laramie Regional Airport.

EFFECTIVE DATE: 0901 UTC, August 30, 2007. The Director of the Federal Register approves this incorporation by reference action under 1 CFR part 51, subject to the annual revision of FAA Order 7400.9 and publication of conforming amendments.

FOR FURTHER INFORMATION CONTACT: Ed Haeseker, Federal Aviation Administration, Western Service Area Office, 1601 Lind Avenue, SW., Renton, WA 98057-4056; telephone (425) 917-6714.

SUPPLEMENTARY INFORMATION:

History

On August 11, 2006, the FAA published in the Federal Register a notice of proposed rulemaking to revise Class E Airspace at Laramie, WY (71 FR 46132). This action will provide additional controlled airspace necessary for the safety of IFR aircraft executing a procedure turn (PT) maneuver as part of the IAP at Laramie Regional Airport. Additional airspace is also necessary to accommodate aircraft executing a new holding pattern published at Laramie Regional Airport, Laramie, WY. Interested parties were invited to participate in this rulemaking effort by submitting written comments on the proposal to the FAA. No comments were received.

Class E airspace designations are published in paragraph 6005 of FAA Order 7400.9P, dated September 1, 2006, and effective September 15, 2006, which is incorporated by reference in 14 CFR 71.1. The Class E airspace designations listed in this document will be published subsequently in that Order.

The Rule

This action amends Title 14 Code of Federal Regulations (14 CFR) part 71 by revising Class E airspace at Laramie, WY. Additional airspace is also necessary to accommodate aircraft executing a new holding pattern published at Laramie Regional Airport, Laramie, WY. Additionally, this action reflects a change in the airport name from General Brees Field to Laramie Regional Airport.

The FAA has determined that this regulation only involves an established body of technical regulations for which frequent and routine amendments are necessary to keep operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9P, Airspace Designations and Reporting Points, dated September 1, 2006, and effective September 15, 2006, is amended as follows:

Paragraph 6005 Class E airspace areas extending upward from 700 feet or more above the surface of the earth.

* * * * *

ANM WY E5 Laramie, WY [Revised]

Laramie Regional Airport, WY

(Lat. 41°18′43″ N., long. 105°40′30″ W.)

Laramie VORTAC

(Lat. 41°20′16″ N., long. 105°43′15″ W.)

Medicine Bow VOR/DME

(Lat. 41°50′44″ N., long. 106°00′15″ W.)

That airspace extending upward from 700 feet above the surface within a 7.9-mile radius of Laramie Regional Airport, and within 4.8 miles south and 8.3 miles north of the Laramie VORTAC 301 radial extending from the 7.9-mile radius to 16.1 miles northwest of the VORTAC, and within 4.3 miles each side of the Laramie VORTAC 126 radial extending from the 7.9-mile radius to 18.3 miles southeast of the VORTAC; that airspace extending upward from 1,200 feet above the surface bounded by a line beginning at the Medicine Bow VOR/DME southwest to lat. 41°30′00″ N., long. 106°27′00″ W., thence southeast to lat. 41°00′00″ N., long. 105°30′00″ W., thence east along lat. 41°00′00″ N., to long. 105°15′00″ W., thence north to 41°30′00″ N., long. 105°15′00″ W., thence to point of beginning.

* * * * *

Issued in Seattle, Washington, on May 11, 2007.
Clark Desing,
Manager, System Support, Western Service Area.

[FR Doc. E7-10256 Filed 5-29-07; 8:45 am]

BILLING CODE 4910-13-P